POSTAL SERVICE

39 CFR Part 111

Destination Delivery Unit Rate Bound Printed Matter Mailer Requirements for Entry

AGENCY: Postal Service.

ACTION: Proposed rule; correction.

SUMMARY: The Postal Service™ proposes a revision to the Domestic Mail Manual (DMM) that would change the preparation requirements for bulk Bound Printed Matter (BPM) by requiring mailers to prepare destination delivery unit (DDU) rate BPM items by 5-digit scheme (optional) and 5-digit sorts. Currently, there is no requirement for mailers to unload and present bulk BPM mail by 5-digit sorts, as is the requirement for Parcel Select™ mailings prepared for the DDU rate. DMM E752.5.2 inadvertently omitted this requirement from the final ruling.

All costing documentation and assumptions for this particular category of mail were based on the requirement that mailers would unload the drop shipment and, in multiple ZIP Code delivery units, separate the BPM items by 5-digit bundles. Specifically, separation by 5-digit ZIP Code or optional 5-digit scheme would be required for bedloaded packages, sacks, pallets, and pallet boxes containing a mixture of 5-digit ZIP Code packages destined for a specific delivery unit.

DATES: Submit comments on or before September 2, 2003.

ADDRESSES: Mail or deliver written comments to the Manager, Mailing Standards, U.S. Postal Service, 1735 N. Lynn St., Room 3025, Arlington, VA 22209-6038. Copies of all written comments will be available for inspection and photocopying between 9 a.m. and 4 p.m., Monday through Friday, at the Postal Service Headquarters Library, 475 L'Enfant Plaza, SW., 11th Floor North, Washington, DC. Comments may also be submitted via fax to 202-268-5293, ATTN: Daniel Leonard.

FOR FURTHER INFORMATION CONTACT: Dan Leonard at 202-268-4656.

SUPPLEMENTARY INFORMATION: Current Postal Service standards for preparation of DDU rate mail for Package Services Destination Entry, prepared by 5-digit or 5-digit schemes, require parcels to be separated by 5-digit for DDU entry, upon request. The requirement for vehicle unloading of Parcel Select DDU drop shipments is in DMM E751.4.10c. This requirement was inadvertently missing from the requirements for DDU rate BPM mailings when they were published in Postal Bulletin 22039a (12-21-00, page 12). Both Parcel Select and BPM are subclasses of Package Services mail. The processing and handling costs and the need for separation by 5-digit ZIP Codes is the same for both at the delivery unit. If the mail is not separated by the driver into 5-digit containers provided by Postal Service employees, then the Postal Service will be forced to absorb the directly attributable costs associated with processing and handling this category of Package Services mail, which will raise costs in the future.

List of Subjects in 39 CFR Part 111

Postal Service.

PART 111—[AMENDED]

1. The authority citation for 39 CFR part 111 continues to read as follows:

Authority: U.S.C. 552(a); 39 U.S.C. 101, 401, 403, 404, 414, 3001-3011, 3201-3219, 3403-3406, 3621, 3626, 5001.

2. Revise the following section of the DMM as set forth below:

Domestic Mail Manual (DMM)

* * * * *

E Eligibility

* * * * *

E700 Package Services

* * * * *

E750 Destination Entry

* * * * *

E752 Bound Printed Matter

* * * * *

6.0 Deposit

* * * * *

6.9 Vehicle Unloading

Uploading of destination entry mailings is subject to these conditions:

* * * * *

[Revise the last sentence of item c to read as follows:]

* * * The driver may be required to place bedloaded packages, pieces, sacks, and the contents of mixed 5-digit pallets in containers provided by the delivery unit in order to maintain separation by 5-digit ZIP Codes or to place containerized mail so as to maintain the separation of 5-digit ZIP Codes.

* * * * *

Stanley F. Mires,
Chief Counsel, Legislative.

[FR Doc. 03-19553 Filed 7-31-03; 8:45 am]

BILLING CODE 7710-12-P